DEPARTMENT OF TRANSPORTATION

Federal Aviation Administration

14 CFR Part 25

[Docket No. FAA-2010-1175; Notice No. 11-02]

RIN 2120-AJ83

Installed Systems and Equipment for Use by the Flightcrew

AGENCY: Federal Aviation Administration (FAA), DOT.

ACTION: Notice of proposed rulemaking (NPRM).

SUMMARY: The Federal Aviation Administration proposes to amend design requirements in the airworthiness standards for transport category airplanes to minimize the occurrence of design-related flightcrew errors. The new design requirements would enable a flightcrew to detect and manage their errors when the errors occur. Adopting this proposal would eliminate regulatory differences between the airworthiness standards of the United States (U.S.) and those of the European Aviation Safety Agency (EASA) without affecting current industry design practices.

DATES: Send your comments on or before April 4, 2011.

ADDRESSES: You may send comments identified by Docket Number FAA-2010-1175 using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Take comments to Docket Operations in Room W12-140 of the West Building Ground Floor at 1200 New Jersey Avenue, SE., Washington, DC, between 9 a.m. and 5 p.m., Monday through Friday, except Federal holidays.

• Fax: Fax comments to Docket Operations at 202-493-2251.

For more information on the rulemaking process, see the SUPPLEMENTARY INFORMATION section of this document.

Privacy: We will post all comments we receive, without change, to http://www.regulations.gov, including any personal information you provide. Using the search function of our docket Web site, anyone can find and read the electronic form of all comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time and follow the online instructions for accessing the docket or to Docket Operations in Room W12-140 of the West Building Ground Floor at 1200 New Jersey Avenue, SE., Washington, DC, between 9 a.m. and 5 p.m., Monday through Friday, except Federal holidays.

FOR FURTHER INFORMATION CONTACT: For technical questions concerning this proposed rule, contact Loran Haworth, Airplane and Flightcrew Interface Branch, ANM-111, Transport Airplane Directorate, Aircraft Certification Service, 1601 Lind Avenue, SW., Renton, Washington 98057-3356; telephone (425) 227-1133; facsimile (425) 227-1320, e-mail Loran.Haworth@faa.gov.

For legal questions about this proposed rule, contact Doug Anderson, FAA, Office of the Regional Counsel (ANM-7), 1601 Lind Avenue, SW., Renton, Washington 98057-3356; telephone (425) 227-2166; facsimile 425-227-1007; e-mail Douglas.Anderson@faa.gov.

SUPPLEMENTARY INFORMATION: Later in this preamble, under the Additional Information section, we discuss how you can comment on this proposal and how we will handle your comments. Included in this discussion is related information about the docket, privacy, and the handling of proprietary or confidential business information. We also discuss how you can get a copy of this proposal and related rulemaking documents.

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, the FAA is charged with prescribing regulations and minimum standards for the design and performance of aircraft that the Administrator finds necessary for safety in air commerce. This regulation is within the scope of that authority. It prescribes new safety standards for the design and operation of transport category airplanes.

Background

Airworthiness standards for type certification of transport category airplanes for products certified in the U.S. are in part 25. EASA's Certification Specifications for Large Aeroplanes (CS-25) are the corresponding airworthiness standards for products certified in Europe. While part 25 and CS-25 are similar, they differ in several respects.

The FAA tasked the Aviation Rulemaking Advisory Committee (ARAC) through its Human Factors Harmonization Working Group to review existing regulations and recommend measures to address the contribution of design and certification of transport category airplane flight decks to flight crew error. The ARAC submitted its recommendations to the FAA in a report, Human Factors—Harmonization Working Group Final Report, dated June 15, 2004. A copy of the report is in the docket for this rulemaking. This proposed rule is a result of this harmonization effort.

Managing Flightcrew Performance

There are several regulations that are designed to address differing aspects of flight crew performance. Flightcrew capabilities are carefully considered through—

(1) Airworthiness standards for the issuance of type certificates for airplanes;

(2) Airplane operating requirements (part 121);

(3) Certification and operating requirements (part 119); and

(4) Requirements for issuing pilot certificates and ratings (part 61).

Taken together, these requirements provide a high degree of operating safety in the air transportation system. These requirements take into consideration equipment design, training, qualifications for pilot certificates, airplane operations and procedures, and the interaction of systems, equipment and personnel and how each contribute to operating safely through risk management.

The proposed requirements in § 25.1302 would augment existing regulations with more explicit requirements for design attributes related to managing and avoiding flight crew error. Design characteristics can contribute to flight crew error.

EASA incorporated this rule in 2006 based on the ARAC recommendations. U.S. and European airworthiness requirements are unharmonized at the present time, and will continue to be unharmonized if the FAA does not issue a final rule on this subject. The requirements of these proposed standards are similar to those in the current EASA CS 25.1302 (Amendment 25/3). Means of compliance are intended to be identical.

Current Requirements

There are several regulations that apply to aspects of flight crew performance. These regulations are listed and discussed in the ARAC report, Human Factors—Harmonization Working Group Final Report, June 15, 2004, which is posted on the Web site http://www.regulations.gov (in the same docket as this proposed rulemaking).

The proposed § 25.1302 would augment these existing generally applicable rules with more explicit requirements for design attributes related to avoiding and managing flightcrew error. Other ways to avoid and manage flightcrew error are regulated through requirements for licensing and qualifying flightcrew members and aircraft operations. Taken together, these complementary approaches provide a high degree of safety.

This complementary approach to avoiding and managing flightcrew error is important. It recognizes that equipment design, training, qualifying through licensing, establishing correct operations and procedures, all contribute to safety by avoiding or minimizing risk. An appropriate balance is needed among them. There have been cases in the past where design characteristics known to contribute to flightcrew error were accepted, with the rationale that training or procedures would mitigate that risk. We now know that such an approach may be inappropriate. Conversely, it would also be inappropriate to require equipment design to always provide complete risk avoidance or mitigation, because such an approach may not be practicable in some cases, and may even create new risks.

Therefore, a proper balance is needed among design approval requirements in the minimum airworthiness standards of part 25 and requirements for training/licensing/qualification, operations, and procedures. We have developed the requirements proposed here with the intent of achieving that balance.

General Discussion of the Proposal

Flightcrews contribute positively to the safety of the air transportation system using their ability to assess complex situations and make reasoned decisions. However, even trained, qualified, checked, alert flightcrew members can make errors. Some errors may be influenced by the design of airplane systems and their flightcrew interfaces. Flightcrew errors that could impact safety are often detected and/or mitigated in the normal course of events. However, accident analyses have identified flightcrew performance and error as significant factors in a majority of accidents involving transport category airplanes.

Accidents often result from a sequence, or combination, of flightcrew errors and safety related events. The design of the flight deck and other systems can influence flightcrew task performance and may also affect the rate of occurrence and effects of flightcrew errors.

Human error is generally characterized as a deviation from what is considered correct in some context. In the hindsight of analysis of accidents, incidents, or other events of interest, these deviations might include: an inappropriate action, a difference from what is expected in a procedure, a mistaken decision, a slip of the fingers in typing, an omission of some kind, and many other examples.

Applicability and Scope

The introductory sentence of proposed § 25.1302 states that the provisions of the section apply to each item of installed equipment intended for use by the flightcrew in operating the airplane from their normally seated positions on the flight deck. An example of such installed equipment would be a display that provides the flightcrew with information enabling them to navigate the airplane.

As used in this section, the term “flightcrew members” is intended to include any or all individuals comprising the minimum flightcrew as determined for compliance with § 25.1523. The phrase “From their normally seated position” means that, to use the equipment addressed by this proposed rule, flightcrew members are seated at their normal duty stations for operating the airplane. The proposed rule would not apply to such items as certain circuit breakers or maintenance controls intended for use by the maintenance crew or by the flightcrew when the airplane is not being operated.

The proposal would require that installed equipment “individually and in combination with other such equipment” must be designed so that qualified flightcrew members who are trained and checked in its use can safely perform their tasks associated with the intended function of the installed equipment. The quoted phrase means that the applicant must consider the use of the equipment in context with other installed equipment to show compliance with the requirements of this proposal. The installed equipment may not prevent other equipment from complying with these requirements. As an example, applicants may not design a display so that the information it provides is either inconsistent with or conflicts with information from other installed equipment.

The provisions of this proposed rule presume that a qualified flightcrew is trained and checked to use the installed equipment, as required by the operational rules. If the applicant seeks a design approval before a training program is accepted, the applicant should document any novel, complex or highly integrated design features and any different or new assumptions related to the design that have the potential to affect training time or flightcrew procedures (for example, flightcrew interpretation, response, or abilities).

The FAA envisions for the proposed requirement that equipment be designed so the flightcrew can safely perform tasks associated with the equipment's intended function. This requirement would apply for operations in both normal and non-normal conditions. Tasks intended for performance under non-normal conditions are generally those prescribed by non-normal (including emergency) flightcrew procedures in the airplane flight manual. The phrase “safely perform their tasks” describes one of the safety objectives of this proposed requirement. The proposal requires the equipment be designed to enable the flightcrew to perform their tasks with sufficient accuracy and in a timely manner, without unduly interfering with other required tasks. The phrase “Tasks associated with its intended function” would include those tasks required to operate the equipment, such as entering flight plan data into a flight management system, and tasks for which the equipment's intended function provides support, such as setting “bugs” for minimum and critical speeds to support airspeed control by the flightcrew.

Controls and Information

The proposed § 25.1302(a) would require the applicant to install appropriate controls and provide necessary information for any flight deck equipment used by the flightcrew to accomplish tasks associated with their intended function as identified in the first paragraph of § 25.1302. To show compliance, the applicant must identify the tasks associated with the intended function of installed equipment, and show that the controls for the equipment, and the information provided for operation of the equipment, are adequate to enable the flightcrew members to perform the identified tasks. The FAA is proposing these requirements because they are not adequately reflected in other parts of 14 CFR part 25 for the specific subject of human factors.

The proposed § 25.1302(b) addresses requirements for flight deck controls and information to ensure that the flightcrew can accomplish their tasks. The intent is to ensure that the design of control and information devices makes them usable by the flightcrew. This requirement would reduce design-induced flightcrew errors by imposing design requirements on the presentation of information on the flight deck and on flight deck controls. Proposed paragraphs (b)(1) through (b)(3) specify these design requirements.

Design requirements for information and controls are necessary to:

• Properly support the flightcrew in doing their tasks.

• Make available to the flightcrew appropriate, effective means to carry out planned actions.

• Enable the flightcrew to have appropriate feedback information about the effects of their actions on the airplane.

The proposed § 25.1302(b)(1) specifically requires that controls and information intended for the flightcrew must be provided in a clear and unambiguous manner, at a resolution and precision appropriate to the task. As applied to information, “clear and unambiguous” means that it can be:

• Perceived correctly (is legible).

• Understood in the context of flightcrew tasks associated with the intended functions of the equipment such that the flightcrew can perform the associated tasks.

The proposed requirement that controls must be provided in a clear and unambiguous manner means the crew must be able to correctly and reliably identify the control by using control distinctiveness such as control shape, color, and location. This requirement is separate from, and in addition to, the requirement for control labeling in § 25.1555(a). The proposed § 25.1302(b)(1) also requires that the information or control be provided, or operate, at a level of detail and accuracy appropriate to accomplishing the task. Insufficient resolution or precision would prevent the flightcrew from performing the task adequately. On the other hand, excessive resolution could result in poor readability or the implication that the task should be carried out more precisely than is actually necessary, thus making the task more difficult.

The proposed § 25.1302(b)(2) requires that controls and information be accessible and usable by the flightcrew in a manner consistent with the urgency, frequency, and duration of their tasks. Controls used more frequently or urgently must be readily accessed, or require fewer steps or actions to perform the task. Less accessible controls may be acceptable if they are needed less frequently or urgently. Controls used less frequently or urgently should not interfere with those used more frequently or urgently. Similarly, tasks requiring a longer time for interaction with the system should not interfere with accessibility to information required for urgent or frequent tasks.

The proposed § 25.1302(b)(3) requires that equipment must present information advising the flightcrew of the effects of their actions on the airplane or systems, if safe operation depends on their awareness of those effects. The intent is that the flightcrew be aware of system or airplane states resulting from their actions, and thus be able to detect and correct their own errors. This subparagraph is included because new technology enables new kinds of flightcrew interfaces that previous requirements do not address.

Equipment Behavior

The proposed § 25.1302(c) requires that installed equipment be designed so that equipment behavior that is operationally relevant to flightcrew tasks is:

• Predictable and unambiguous.

• Designed to enable the flightcrew to intervene in a manner appropriate to the task (and intended function).

“Equipment behavior” in the context of this proposal refers to the function of the equipment as perceived by a flightcrew member. Although improved flight deck technologies involving integrated and complex information and control systems have increased safety and performance, they have also introduced the need to ensure proper interaction between the flightcrew and those systems. Service experience has shown that some equipment behavior, especially behavior of some automated systems, is very complex. Some system behavior is dependent on logical states or mode transitions not well understood or expected by the flightcrew. Such design characteristics can confuse the flightcrew and have contributed to incidents and accidents.

“Operationally-relevant behavior” is the combined effect of the equipment's logic, controls, and displayed information on the flightcrews' awareness or perception of the system's operation, which affects the flightcrews' planning or operation of the system. The intent here is to distinguish such system behavior from the functional logic within the system design, much of which the flightcrew does not know or need to know and which should be transparent to them.

The proposed § 25.1302(c)(1) requires that system behavior be such that a qualified flightcrew can know what the system is doing and why. It requires that operationally relevant system behavior be “predictable and unambiguous.” This means that a crew can retain enough information about what their action, or a changing situation, will cause the system to do under foreseeable circumstances so that they can operate the system safely. One reason that system behavior must be unambiguous is that crew actions may have different effects on the airplane depending on its current state or operational circumstances. For example, autopilot response to selection or arming of a different mode can depend on which mode is currently active. In such a case the autopilot must be designed to avoid ambiguity about the result of possible flightcrew selections.

The proposed § 25.1302(c)(2) requires that the design enable the flightcrew to determine a need for, choose, and take appropriate action, or to change or alter an input to the system, in a manner appropriate to the task, and to monitor the system and airplane response to the action. For example, to respond appropriately to a new Air Traffic Control (ATC) altitude clearance, the flightcrew needs information about the active flight guidance and flight management modes, what means are available to comply with the new ATC requirement given the current airplane and system states, how to select those means, and how to determine that the expected response is being achieved.

Error Management

The proposed § 25.1302(d) addresses the reality that even well-trained, checked, proficient flightcrews using well-designed systems will make errors. The proposal requires that equipment be designed to enable the flightcrew to manage such errors. For the purpose of this rule, errors “resulting from flightcrew interaction with the equipment” are errors that are in some way attributable to, or related to, design of the controls, behavior of the equipment, or information presented. Examples of designs or information that could cause errors are complex indications and controls that are inconsistent with each other or with other systems on the flight deck. Another example is the presentation of a procedure for the crew to follow that is inconsistent with the design of the equipment. Such errors are considered to be within the scope of this proposed requirement.

The proposed requirement that a design enable the flightcrew to “manage errors” means that the design meets the following criteria to the extent practicable:

• Flightcrew must be able to detect and/or recover from errors resulting from their interaction with the equipment.

• Effects of such flightcrew errors on the airplane functions or capabilities must be evident to the flightcrew, and continued safe flight and landing must be possible.

• Flightcrew errors must be discouraged by switch guards, interlocks, confirmation actions, or other effective means, and

• Effects of errors with potential safety consequences must be precluded by system logic or other aspects of system design that will detect and correct such errors.

The requirement to manage errors applies to those errors that can be reasonably expected in service from qualified, trained and checked flightcrews. Errors “reasonably expected in service” include those that have occurred in service in the past with similar or comparable equipment. It also includes errors that can be predicted to occur based on general experience and on knowledge of human performance capabilities and limitations as they relate to use of the types of controls, information, or system logic being assessed.

The proposed § 25.1302(d) includes the following statement: “This paragraph (d) does not apply to * * * skill-related errors associated with manual control of the airplane.” That statement means to exclude errors resulting from flightcrew lack of proficiency in controlling flight path and attitude with the primary roll, pitch, yaw, and thrust controls. These issues are considered adequately addressed by existing requirements, such as part 25 Subpart B and § 25.671(a), which require that each control and control system operate with the ease, smoothness, and positiveness appropriate to its function. We do not intend that equipment design be required to compensate for deficiencies in flightcrew training or experience. This proposed rule assumes at least the minimum flightcrew requirements for the intended operation, as discussed previously.

This proposal only concerns the management of errors resulting from flightcrew decisions, acts or omissions that occur when they are operating the airplane in “good faith.” Therefore, this paragraph contains exceptions for actions that are intentionally taken with malicious or purely contrary intent (that is, actions intended to have incorrect or unsafe results); for actions arising from a crewmember's substantial disregard for safety (that is, reckless conduct); and for actions taken as a result of acts or threats of violence (for example, actions taken under duress). It is unreasonable to expect that airplane designers would be able to anticipate and prevent these types of actions. The EASA regulation, CS-25.1302, allows applicants to assume that the flightcrew is “acting in good faith.” While our proposed § 25.1302(d) replaces this term with a more detailed enumeration of exceptions, our intent is the same, and the regulatory effect would be harmonized.

On the other hand, pilots do occasionally take erroneous actions that, while intentional, are not intended to have unsafe consequences; that is, they are “acting in good faith.” An example of an intentional error that might occur would be a situation where an alert occurs, but the flightcrew does not perform the associated procedure because they believe it to be a nuisance alert. In this situation § 25.1302(d) requires the applicant to show that this error can be detected and managed by the flightcrew.

Requiring errors to be manageable only “to the extent practicable” addresses both economic and operational practicability. We want to avoid imposing requirements without considering economic feasibility and commensurate safety benefits. We also need to avoid introducing into the design any error management features that would inappropriately impede flightcrew actions or decisions in normal or non-normal conditions. For example, we do not intend to require so many guards or interlocks on the means to shut down an engine that the flightcrew would be unable to do this reliably within the available time. We do not intend to reduce the authority or means for the flightcrew to intervene or carry out an action when it is their responsibility to fly the airplane to the best of their abilities.

The scope of applicability of this material is limited to errors for which there is a contribution from or relationship to design. Even so, we expect § 25.1302(d) to result in design changes that will protect against other types of errors as well. One example might be the use of an “undo” function that allows the flightcrew to back out of a function once selected in certain designs.

Availability of Draft Advisory Circular

Because existing guidance does not specifically address the requirements of this proposal, a draft advisory circular accompanies this proposed rule and is posted on the FAA's draft document Web site, on the Internet, at http://www.faa.gov/aircraft/draft_docs/.

Regulatory Evaluation, Regulatory Flexibility Determination, International Trade Impact Assessment and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub.L. 104-4) requires agencies to prepare a written assessment of the costs, benefits, and other effects of proposed or final rules that include a Federal mandate likely to result in the expenditure by State, local, or Tribal governments, in the aggregate, or by the private sector, of $100 million or more annually (adjusted for inflation with base year of 1995). This portion of the preamble summarizes the FAA's analysis of the economic impact of the proposed rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the costs and benefits is not prepared. The FAA has made a determination for this proposed rule.

The reasoning for this determination follows. The proposed rule, § 25.1302, addresses human factors as they apply to installed equipment on the flight deck because crew limitations and design-related errors are not currently covered by the regulations in so specific a manner. The proposed rule would harmonize with EASA's CS 25.1302, which is already in effect. Manufacturers and modifiers of transport category aircraft would be affected by this proposed rule. But a review of current manufacturers has revealed they already meet or intend to meet the EASA standard as it exists in CS 25.1302. Since the requirements in the proposed rule are in CS 25.1302, the manufacturers would incur no additional costs. This is, therefore, a clarification of the intent for CS 25.1302 by EASA and the FAA.

The compliance of manufacturers with the EASA requirements would increase safety by (1) reducing the likelihood of flight crew errors and (2) enabling detection and recovery from errors that do occur, or mitigating their effects. Since the manufacturers intend to comply with the EASA requirements, however, there would be no additional safety benefits. The proposed rule would provide economic benefits from reduced joint certification costs brought about by a reduction in data collection and analysis and by a reduction in the paperwork and time required in the certification process. The FAA therefore has determined that this proposed rule would have minimal costs with positive net benefits and does not warrant a full regulatory evaluation. The FAA requests comments regarding this determination.

The FAA has also determined that this proposed rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

As noted above, this proposed rule would not entail any additional costs to transport category manufacturers as they are already in compliance or intend to fully comply with the EASA standard. Therefore, the FAA certifies that this proposed rule would not have a significant economic impact on a substantial number of small entities. The FAA solicits comments regarding this determination.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and determined that it would promote international trade by harmonizing with corresponding European Aviation Safety Agency (EASA) regulations, thus reducing the cost of joint certification.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and Tribal governments, in the aggregate, or by the private sector; such a mandate is deemed to be a “significant regulatory action.” The FAA currently uses an inflation-adjusted value of $143.1 million.

This final rule does not contain such a mandate. The requirements of Title II do not apply.

Executive Order 13132, Federalism

The FAA has analyzed this proposed rule under the principles and criteria of Executive Order 13132, Federalism. The agency has determined that this action would not have a substantial direct effect on the States, on the relationship between the national Government and the States, or on the distribution of power and responsibilities among the various levels of government, and, therefore, would not have Federalism implications.

Paperwork Reduction Act

The Paperwork Reduction Act of 1995 (44 U.S.C. 3507(d)) requires that the FAA consider the impact of paperwork and other information collection burdens imposed on the public. The FAA has determined that there are no new information collection requirements associated with this proposed rule.

International Compatibility

In keeping with U.S. obligations under the Convention on International Civil Aviation, it is FAA policy to comply with International Civil Aviation Organization (ICAO) Standards and Recommended Practices to the maximum extent practicable. The FAA has reviewed the corresponding ICAO Standards and Recommended Practices and has identified no differences with these proposed regulations.

Environmental Analysis

FAA Order 1050.1E identifies FAA actions that are categorically excluded from preparation of an environmental assessment or environmental impact statement under the National Environmental Policy Act in the absence of extraordinary circumstances. The FAA has determined that this proposed rulemaking action qualifies for the categorical exclusion identified in paragraph 4(j), FAA Order 1050.1D, appendix 4, and involves no extraordinary circumstances.

Regulations That Significantly Affect Energy Supply, Distribution, or Use

The FAA analyzed this proposed rule under Executive Order 13211, Actions Concerning Regulations that Significantly Affect Energy Supply, Distribution, or Use (May 18, 2001). The agency has determined that it would not be a “significant energy action” under the executive order and would not be likely to have a significant adverse effect on the supply, distribution, or use of energy.

Additional Information

Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure that the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider all comments filed after the comment period has closed if it is possible to do so without incurring expense or delay. The agency may change this proposal because of the comments it receives.

Proprietary or Confidential Business Information

Do not file proprietary or confidential business information in the docket. Such information must be sent or delivered directly to the person identified in the FOR FURTHER INFORMATION CONTACT section of this document, and marked as proprietary or confidential. If submitting information on a disk or CD-ROM, mark the outside of the disk or CD-ROM, and identify electronically within the disk or CD-ROM the specific information that is proprietary or confidential.

Under 14 CFR 11.35(b), when the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

Availability of Rulemaking Documents

You can get an electronic copy using the Internet by—

(1) Searching the Federal eRulemaking Portal (http://www.regulations.gov);

(2) Visiting the FAA's Regulations and Policies Web page at http://www.faa.gov/regulations_policies/; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Commenters must identify the docket or notice number of this rulemaking.

All documents the FAA considered in developing this proposed rule, including economic analyses and technical reports, may be accessed from the Internet through the Federal eRulemaking Portal referenced in item (1) above.

List of Subjects in 14 CFR Part 25

Aircraft, Aviation safety, Human factors, Reporting and record keeping requirements, Safety, Transportation.

The Proposed Amendment

In consideration of the foregoing, the Federal Aviation Administration proposes to amend part 25 of Title 14, Code of Federal Regulations, as follows:

PART 25—AIRWORTHINESS STANDARDS: TRANSPORT CATEGORY AIRPLANES

1. The authority citation for Part 25 continues to read as follows:

Authority: 49 U.S.C. 106(g), 40113, 44701, 44702 and 44704.

2. Add § 25.1302 to Subpart F to read as follows:

§ 25.1302 Installed systems and equipment for use by the flightcrew.

This section applies to installed systems and equipment intended for flightcrew members' use in operating the airplane from their normally seated positions on the flight deck. The applicant must show that these systems and installed equipment, individually and in combination with other such systems and equipment, are designed so that qualified flightcrew members trained in their use can safely perform all of the tasks associated with the systems' and equipment's intended function. Such installed equipment and systems must meet the following requirements:

(a) Flight deck controls must be installed to allow accomplishment of all the tasks required to safely perform the equipment's intended function including providing information to the flightcrew that is necessary to accomplish the defined tasks.

(b) Flight deck controls and information intended for the flightcrew's use must:

(1) Be provided in a clear and unambiguous manner at a resolution and precision appropriate to the task.

(2) Be accessible and usable by the flightcrew in a manner consistent with the urgency, frequency, and duration of their tasks, and

(3) Enable flightcrew awareness, if awareness is required for safe operation, of the effects on the airplane or systems resulting from flightcrew actions.

(c) Operationally-relevant behavior of the installed equipment must be:

(1) Predictable and unambiguous, and

(2) Designed to enable the flightcrew to intervene in a manner appropriate to the task.

(d) To the extent practicable, installed equipment must incorporate means to enable the flightcrew to manage errors resulting from the kinds of flightcrew interactions with the equipment that can be reasonably expected in service. This paragraph does not apply to any of the following:

(1) Skill-related errors associated with manual control of the airplane;

(2) Errors that result from decisions, actions, or omissions committed with malicious intent;

(3) Errors arising from a crewmember's reckless decisions, actions, or omissions reflecting a substantial disregard for safety; and

(4) Errors resulting from acts or threats of violence, including actions taken under duress.

Issued in Washington, DC on January 26, 2011.
Dorenda D. Baker,
Director, Aircraft Certification Service.

[FR Doc. 2011-2358 Filed 2-2-11; 8:45 am]

BILLING CODE 4910-13-P